DEPARTMENT OF COMMERCE

International Trade Administration

[A-122-822]

Notice of Extension of Time Limit for Preliminary Results of Antidumping Duty Administrative Review: Corrosion-Resistant Carbon Steel Flat Products From Canada

AGENCY: Import Administration, International Trade Administration, Department of Commerce.

EFFECTIVE DATE: April 22, 2005.

FOR FURTHER INFORMATION CONTACT: Candice Kenney Weck or Sean Carey, Office of AD/CVD Operations, Office 6, Import Administration, International Trade Administration, U.S. Department of Commerce, 14th Street and Constitution Avenue, NW., Washington, DC 20230, at (202) 482-0938 or (202) 482-3964, respectively.

SUPPLEMENTARY INFORMATION:

Background

The Department of Commerce (the Department) received timely requests for administrative review of the antidumping duty order on corrosion-resistant carbon steel flat products from Canada, with respect to Dofasco Inc. (“Dofasco”), Impact Steel Canada, Ltd. (“Impact Steel”), and Stelco Inc. (“Stelco”). On September 22, 2004, the Department published a notice of initiation of this administrative review for the period of August 1, 2003, through July 31, 2004 (69 FR 56745). On April 7, 2005, the Department rescinded the administrative review of Impact Steel (70 FR 17648) because Impact Steel timely withdrew its request and no other party had requested an administrative review of Impact Steel. After this rescission, the companies still subject to review are Stelco and Dofasco.

Extension of Time Limits for Preliminary Results

Pursuant to section 751(a)(3)(A) of the Tariff Act of 1930, as amended (the Act), the Department shall issue preliminary results in an administrative review of an antidumping duty order within 245 days after the last day of the anniversary month of the date of publication of the order. The Act further provides, however, that the Department may extend that 245-day period to 365 days if it determines it is not practicable to complete the review within the foregoing time period.

In light of the complexity of analyzing both companies' cost calculations and Dofasco's various U.S. channels of distribution and sales terms, it is not practicable to complete this review by the current deadline of May 3, 2005. Therefore, in accordance with section 751(a)(3)(A) of the Act, the Department is extending the time limit for the preliminary results until August 31, 2005, which is 365 days after the last day of the anniversary month of the date of publication of the order. The final results continue to be due 120 days after the publication of the preliminary results, in accordance with section 351.213 (h) of the Department's regulations.

This notice is issued and published in accordance to sections 751(a)(1) and 777(i)(1) of the Act.

Dated: April 15, 2005.
Barbara E. Tillman,
Acting Deputy Assistant Secretary for Import Administration.

[FR Doc. E5-1919 Filed 4-21-05; 8:45 am]

BILLING CODE 3510-DS-S